DEPARTMENT OF ENERGY

Federal Energy Regulatory Commission

[Docket No. CP09-431-000]

Texas Eastern Transmission, LP; Notice of Application

June 18, 2009.

Take notice that on June 11, 2009, Texas Eastern Transmission, LP (Texas Eastern), 5400 Westheimer Court, Houston, TX 77056-5310 filed an application in Docket No. CP09-431-000 an application pursuant to section 7 of the Natural Gas Act (NGA) requesting permission and approval to (1) abandon by removal two Pratt-Whitney units with a total combined horsepower (HP) of 5,500 and related appurtenances at the Hanover Compressor Station in Morris County, New Jersey (Hanover Station), and uprate to 6,500 HP the existing Solar compressor unit at the Hanover Station such that the certificated HP at the station is reduced from 9,200 HP to 6,500, and (2) abandon in place one 2,000 HP compressor unit and related appurtenances located at the Eagle Compressor Station (Station No. 25) in Chester County, Pennsylvania (Eagle Station), all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Texas Eastern states that the two Pratt-Whitney compressor units at the Hanover Station and the unit at the Eagle Station are outdated, and in conjunction with approval of the requested uprate of the Solar unit at the Hanover Station, are not needed for Texas Eastern to continue to meet its current firm service obligations. Texas Eastern further states that there will be no termination or reduction in service to any existing firm customer of Texas Eastern as a result of the proposed uprate and abandonments proposed in the application. According to Texas Eastern, the proposed abandonment will not affect Texas Eastern's existing tariffs. Texas Eastern states that the proposed abandonments will reduce Texas Eastern's current repair and maintenance expenses and eliminate the need for future capital expenditures at the stations associated with the abandoned units. As a result, Texas Eastern submits that the requested uprate and abandonment authorization is consistent with the public convenience and necessity.

In order to accomplish the abandonment at the Eagle Station, Texas Eastern proposes to abandon in place the Westinghouse Type CS Frame 2-36-26 compressor and associated piping.

No work is required in order to accomplish the proposed uprate of the Solar unit at the Hanover Station. In order to accomplish the abandonment of the Pratt-Whitney units at the Hanover Station, Texas Eastern proposes to (1) Remove the two units and the concrete foundation and piers; (2) remove all associated valves, gas piping, lube oil piping and control panels associated with the two units; and (3) complete rehabilitation.

Any questions regarding this application should be directed to: Lisa A. Moore, General Manager, Rates and Certificates, Texas Eastern Transmission, LP, PO Box 1642, Houston, Texas 77251-1642, at (713) 627-4102.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: 5 p.m. Eastern Time on July 9, 2009.

Kimberly D. Bose,
Secretary.

[FR Doc. E9-14934 Filed 6-24-09; 8:45 am]

BILLING CODE 6717-01-P